NATIONAL AERONAUTICS AND SPACE ADMINISTRATION

[Notice 11-114]

NASA Advisory Council; Science Committee Planetary Protection Subcommittee; Meeting

AGENCY: National Aeronautics and Space Administration.

ACTION: Notice of meeting.

SUMMARY: In accordance with the Federal Advisory Committee Act, Public Law 92-463, as amended, the National Aeronautics and Space Administration (NASA) announces a meeting of the Planetary Protection Subcommittee of the NASA Advisory Council (NAC). This Subcommittee reports to the Science Committee of the NAC. The Meeting will be held for the purpose of soliciting, from the scientific community and other persons, scientific and technical information relevant to program planning.

DATES: Monday, November 28, 2011, 9:15 a.m. to 5p.m., and Tuesday, November 29, 2011, 9:15 a.m. to 1p.m., Local Time.

ADDRESSES: The Kurt H. Debus Conference Center, Juno and Jupiter Rooms, Kennedy Space Center Visitor Complex, SR 405, Kennedy Space Center, FL 32899.

FOR FURTHER INFORMATION CONTACT: Ms. Marian Norris, Science Mission Directorate, NASA Headquarters, Washington, DC 20546, (202) 358-4452, fax (202) 358-4118, or mnorris@nasa.gov.

SUPPLEMENTARY INFORMATION: The meeting will be open to the public up to the capacity of the room. This meeting will also be available telephonically and by WebEx. Any interested person may call the USA toll free conference call number 1-(888) 282-0433, or the USA toll and international conference call number 1-(517) 308-9220, pass code PPS, to participate in this meeting by telephone. The WebEx link is http://tinyurl.com/3zo5v3r. The agenda for the meeting includes the following topics:

—Mars Missions: Status and Plans.

—Technology Needs for Returning Planetary Samples to Earth.

—Agency Planetary Protection Integration/Coordination Activities.

It is imperative that the meeting be held on these dates to accommodate the scheduling priorities of the key participants. Attendees will be requested to sign a register. To expedite admittance, attendees may submit their name and affiliation by November 18, 2011, to Marian Norris via email at mnorris@nasa.gov or by telephone at (202) 358-4452. Attendees are requested to park in Lot 4 or 5 at the Visitor Complex. Do not go to the ticket booth. Proceed directly to the Main Entrance turnstiles, which open at 9 a.m., and notify the gate agent at the turnstiles that you are attending the NAC meeting. The meeting attendees will be permitted entry through the turnstiles and magnetometers for the NAC meeting at the Debus Center.

November 3, 2011.
P. Diane Rausch,
Advisory Committee Management Officer, National Aeronautics and Space Administration and Space Administration.

[FR Doc. 2011-28955 Filed 11-8-11; 8:45 am]

BILLING CODE 7510-13-P